DEPARTMENT OF HOUSING AND URBAN DEVELOPMENT

[Docket No. FR-7080-N-32]

30-Day Notice of Proposed Information Collection: License for the Use of Personally Identifiable Information Protected Under the Privacy Act of 1974, OMB Control No.: 2528-0297

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 21, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov, telephone (202) 402-5535. This is not a toll-free number, HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on March 12, 2024 at 89 FR 17864.

A. Overview of Information Collection

Title of Information Collection: License for the Use of Personally Identifiable Information Protected Under the Privacy Act of 1974.

OMB Approval Number: 2528-0297.

Type of Request: Reinstatement with change of a previously approved collection.

Form Number: N/A.

Description of the need for the information and proposed use: The United States Department of Housing and Urban Development (HUD) collects and maintains personally identifiable information on tenants in public and assisted housing, the confidentiality of which is protected by the Privacy Act of 1974 (5 U.S.C. 552a). On occasion, HUD shares this information with contractors and grantees, subject to stringent requirements to protect these households from unauthorized disclosure of information. The purpose for sharing is to further policy-relevant research on the effectiveness of HUD programs.

HUD may, under the terms of the Routine Uses published in its various System of Records Notices, share these data with parties whom HUD has awarded contracts, grants, service agreements, or other agreements. HUD has shared data with contractors and grantees, but it has not until now shared data under service agreements because it has not until now proposed a legal form for effectuating such an agreement. HUD does not wish to limit access to the information to parties that have received specific funding to carry out a study through a grant or contract. Instead, HUD proposes to share the data with legitimate research organizations that have conceived policy-relevant analyses and that are able and willing to protect the data from unauthorized disclosure. The legal form for the proposed service agreement is herein called a “license.”

HUD wishes to continue making the data available for statistical, research, or evaluation purposes to organizations and qualified and capable of research and analysis consistent with the statistical, research, or evaluation purposes for which the data were provided or are maintained, but only if the data are used and protected in accordance with the terms and condition stated in the license, upon receipt of such assurance of qualification and capability, and it is agreed by the organization requesting such information and HUD.

Information collection | Number of respondents | Frequency of response | Responses per annum | Burden hours per response | Annual burden hours | Hourly cost per response | Annual cost
Application for Data License | 15 | 1 | 15 | 1 | 15 | $47.31 | $709.65
Data License Agreement | 15 | 1 | 15 | 1 | 15 | 57.63 | 864.45
Affidavit of Nondisclosure | 45 | 1 | 45 | 0.25 | 11.25 | 23.41 | 263.36
Data Destruction Certification Form | 6 | 1 | 6 | 0.25 | 1.5 | 48.85 | 73.28
Total Burden Hours | 81 |  |  |  | 42.75 |  | 1,910.74

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

Anna P. Guido,
Department Reports Management Office, Office of Policy Development and Research, Chief Data Officer.

[FR Doc. 2024-16055 Filed 7-19-24; 8:45 am]

BILLING CODE 4210-67-P